DEPARTMENT OF COMMERCE

National Oceanic and Atmospheric Administration

[I.D. 080106D]

Pacific Fishery Management Council; Public Meeting

AGENCY: National Marine Fisheries Service (NMFS), National Oceanic and Atmospheric Administration (NOAA), Commerce.

ACTION: Notice of a public meeting.

SUMMARY: The Pacific Fishery Management Council's (Council) Habitat Committee (HC) will hold a meeting, which is open to the public, on Monday, August 28, 2006. The HC will discuss items on the Council's September meeting agenda, plan for future work on ecosystem management and Klamath River habitat issues, and discuss other issues related to fish habitat.

DATES: The Council's HC will meet on Monday, August 28, 2006, from 8:30 a.m. until business for the day is completed.

ADDRESSES: All meetings will be held at the Pacific Fishery Management Council, 7700 NE. Ambassador Place, Suite 101, Portland, OR 97220; telephone: (503) 820-2280.

Council address: Pacific Fishery Management Council, 7700 NE. Ambassador Place, Suite 101, Portland, OR 97220-1384.

FOR FURTHER INFORMATION CONTACT: Ms. Jennifer Gilden, Pacific Fishery Management Council, telephone: (503) 820-2280.

SUPPLEMENTARY INFORMATION: The HC will develop recommendations for Council consideration at its September 2006 meeting in Foster City, CA, and address other issues relating to fish habitat. No management actions will be decided by the HC.

Although non-emergency issues not contained in the meeting agendas may be discussed, those issues may not be the subject of formal action during these meetings. Advisory body action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280, at least 5 days prior to the meeting date.

Dated: August 2, 2006.
James P. Burgess,
Acting Director, Office of Sustainable Fisheries, National Marine Fisheries Service.

[FR Doc. E6-12823 Filed 8-7-06; 8:45 am]

BILLING CODE 3510-22-S